DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

GPRA Client Outcomes for the Substance Abuse and Mental Health Services Administration (SAMHSA)—(OMB No. 0930-0208, revision)—The mission of the Substance Abuse and Mental Health Services Administration (SAMHSA) is to improve the effectiveness and efficiency of substance abuse and mental health treatment and prevention services across the United States. All of SAMHSA's activities are designed to ultimately reduce the gap in the availability of substance abuse and mental health services and to improve their effectiveness and efficiency.

Data are collected from all SAMHSA knowledge application and targeted capacity expansion grants and contracts where client outcomes are to be assessed at intake and post-treatment.

SAMHSA-funded projects are required to submit this data as a contingency for their award. The analysis of the data will also help determine whether the goal of reducing health and social costs of drug use to the public is being achieved.

The primary purpose of this data collection activity is to meet the reporting requirements of the Government Performance and Results Act (GPRA) by allowing SAMHSA to quantify the effects and accomplishments of SAMHSA programs. In addition, the data will be useful in addressing goals and objectives outlined in ONDCP's Performance Measures of Effectiveness. Following is the estimated annual response burden for this effort.

Center/number of annual clients-participants | Data collections per client/participant | Hours per data collection | Total hours | Added burden prop. | Total hour burden
CMHS:
3,750 | 3 | .33 | 3,713 | 0.70 | 2,599
CSAP:
12,150 | 3 | .33 | 12,029 | 0.72 | 8,661
CSAT:
26,031 ¹ | 3 | .33 | 25,771 | 0.47 | 12,112
3,500 ² | ³ 4 | .33 | 4,620 | 0.47 | 2,171
Total:
45,431 |  |  |  |  | 25,543
¹ Adults.
² Adolescents.
³ Four data collections for adolescents.
Note: This is the maximum additional burden if all clients/participants complete three sets of items. CSAP and CSAT adolescent clients/participants do not usually receive all four data collections. Added burden proportion is an adjustment reflecting the extent to which programs typically already collect the data items.

Written comments and recommendations concerning the proposed information collection should be sent within 30 days of this notice to: Allison Herron Eydt, Human Resources and Housing Branch, Office of Management and Budget, New Executive Office Building, Room 10235, Washington, DC 20503.

Dated: October 7, 2002.
Richard Kopanda,
Executive Officer, SAMHSA.

[FR Doc. 02-25957 Filed 10-10-02; 8:45 am]

BILLING CODE 4162-20-P